DEPARTMENT OF LABOR

Occupational Safety and Health Administration

Utah State Plan; Change in Level of Federal Enforcement: Private-Sector Employment on Military Bases

AGENCY: Occupational Safety and Health Administration (OSHA), Department of Labor.

ACTION: Notice.

SUMMARY: Federal OSHA currently has coverage over private sector employers at Hill Air Force Base and the Tooele Army Depot while the Utah State Plan covers private sector employers on all other United States military facilities within the State. This document gives notice of OSHA's approval of a change to the State of Utah's Occupational Safety and Health State Plan reinstating Federal OSHA enforcement authority over private sector employment on all United States military facilities and bases in Utah.

DATES: Applicability Date: November 15, 2024.

FOR FURTHER INFORMATION CONTACT:

For press inquiries: Mr. Frank Meilinger, Director, OSHA Office of Communications: telephone: (202) 693-1999; email: meilinger.francis2@dol.gov.

For general and technical information: Douglas J. Kalinowski, Director, OSHA Directorate of Cooperative and State Programs: telephone: (202) 693-2200; email: kalinowski.doug@dol.gov.

SUPPLEMENTARY INFORMATION: Section 18 of the Occupational Safety and Health Act of 1970, 29 U.S.C. 667 (OSH Act), provides that States that assume responsibility for developing and enforcing their own occupational safety and health standards may do so by submitting and obtaining Federal approval of a State Plan. State Plan approval occurs in stages, which include initial approval under section 18(c) of the OSH Act and, ultimately, final approval under section 18(e), signifying relinquishment of Federal enforcement authority with respect to occupational safety and health issues covered by the State Plan.

The Utah State Plan was initially approved under section 18(c) of the OSH Act on January 10, 1973 (38 FR 1178). The Utah State Plan is administered by the Utah Occupational Safety and Health Division (UOSH) of the Utah Labor Commission. On July 16, 1985, OSHA announced the final approval of the Utah State Plan pursuant to section 18(e) and amended 29 CFR part 1952 to reflect the Assistant Secretary's decision (50 FR 28770). As a result, Federal OSHA relinquished its enforcement authority regarding occupational safety and health issues covered by the Utah State Plan.

The Utah State Plan covers most private sector and all State and local government workers. The Utah State Plan does not cover: Federal Government employers, including the United States Postal Service (USPS), contract workers and contractor-operated facilities engaged in USPS mail operations; maritime employment; employment at the United States Department of Energy's (DOE) Naval Petroleum and Oil Shale Reserve; all working conditions of aircraft cabin crewmembers onboard aircraft in operation; the enforcement of the field sanitation standard, 29 CFR 1928.110, and the temporary labor camps standard, 29 CFR 1910.142, with respect to any agricultural establishment where workers are engaged in “agricultural employment”—within the meaning of the Migrant and Seasonal Agricultural Worker Protection Act, 29 U.S.C. 1802(3) ¹—regardless of the number of workers; and any hazard, industry, geographic area, operation, or facility over which the State is unable to effectively exercise authority for reasons not related to the required performance or structure of the plan. In addition, Federal OSHA retains enforcement of the anti-retaliation provision of the Occupational Safety and Health Act of 1970, section 11(c), 29 U.S.C. 660(c), with respect to the private sector. The Utah State Plan concurrently investigates private sector and State and local government workplace retaliation cases under a provision analogous to section 11(c). The Exceptions to the Utah State Plan's occupational safety and health coverage are listed on OSHA's website at https://www.OSHA.gov/stateplans/ut.

¹ This includes workers engaged in hand packing of produce into containers, whether done on the ground, on a moving machine, or in a temporary packing shed, except that the Utah State Plan retains authority with respect to agricultural temporary labor camps engaged in egg, poultry, or red meat production or the post-harvest processing of agricultural or horticultural commodities. The Department of Labor Wage and Hour Division enforces the field sanitation standard and temporary labor camp standard with respect to the operations not covered by the Utah State Plan.

On March 25, 2024, the Utah State Plan requested that Federal OSHA resume enforcement authority over all private-sector employment on United States military facilities and bases within the State of Utah. Federal OSHA already retained enforcement authority over two bases in the State, Hill Air Force Base and the Tooele Army Depot, which includes the Tooele Chemical Demilitarization Facility. The Utah State Plan cited access restrictions impeding timely inspections and investigations on military installations as the primary reason for requesting this change in coverage. After discussions between Federal OSHA and the Utah State Plan, both agencies agreed that Federal OSHA coverage of all private sector employers on United States military facilities and bases was the best solution to ensure prompt and effective protection of private sector workers on such military facilities and bases in Utah. Accordingly, notice is hereby given of the change in Federal enforcement authority over private sector employers on all United States military facilities and bases in Utah, and coverage is transferred from the Utah State Plan to Federal OSHA.

Authority and Signature

Douglas L. Parker, Assistant Secretary of Labor for Occupational Safety and Health, U.S. Department of Labor, authorized the preparation of this notice. OSHA is issuing this notice under the authority specified by section 18 of the Occupational Safety and Health Act of 1970 (29 U.S.C. 667), Secretary of Labor's Order No. 8-2020 (85 FR 58383), and 29 CFR parts 1902, 1953 and 1955.

Douglas L. Parker,
Assistant Secretary of Labor for Occupational Safety and Health.

[FR Doc. 2024-26535 Filed 11-14-24; 8:45 am]

BILLING CODE 4510-26-P